NATIONAL CREDIT UNION ADMINISTRATION

Notice of Meetings

TIME AND DATE: 10 a.m., Monday, May 8, 2000.

PLACE: Board Room, 7th Floor, Room 7047, 1775 Duke Street, Alexandria, VA 22314-3428.

STATUS: Open.

MATTER TO BE CONSIDERED:

1. Final Rule: Amendments to Parts 716 and 741, NCUA's Rules and Regulations, Privacy of Consumer Financial Information; Requirements for Insurance.

RECESS: 10:45 a.m.

TIME AND DATE: 11 a.m., Monday, May 8, 2000.

PLACE: Board Room, 7th Floor, Room 7047, 1775 Duke Street, Alexandria, VA 22314-3428.

STATUS: Closed.

MATTER TO BE CONSIDERED:

1. One (1) Personnel Matter. Closed pursuant to exemptions (2) and (6).

FOR FURTHER INFORMATION CONTACT: Becky Baker, Secretary of the Board, Telephone (703) 518-6304.

Becky Baker,
Secretary of the Board.

[FR Doc. 00-11245 Filed 5-2-00; 11:11 am]

BILLING CODE 7535-01-M